DEPARTMENT OF COMMERCE

National Oceanic and Atmospheric Administration

RIN 0648-XB93

Advisory Committee to the U.S. Section of the International Commission for the Conservation of Atlantic Tunas (ICCAT); Summer Meeting

AGENCY: National Marine Fisheries Service (NMFS), National Oceanic and Atmospheric Administration (NOAA), Commerce.

ACTION: Notice of meeting.

SUMMARY: In preparation for the 2007 International Commission for the Conservation of Atlantic Tunas (ICCAT) meeting, the Advisory Committee to the U.S. Section to ICCAT will have a summer meeting.

DATES: The meeting will be held August 29-30, 2007. There will be an open session the morning of Wednesday August 29, 2007, beginning at 9 a.m. thru 12 p.m. The remainder of the meeting will be closed to the public.

ADDRESSES: The meeting will be held at the Hilton Hotel, 8727 Colesville Road, Silver Spring, MD 20910.

FOR FURTHER INFORMATION CONTACT: Kelly Denit, Office of International Affairs, 301-713-2276.

SUPPLEMENTARY INFORMATION: The Advisory Committee to the U.S. Section to ICCAT will meet in an open session to consider information on stock status of highly migratory species, in particular bigeye, northern albacore and southern albacore tuna. After the open session, the Advisory Committee to the U.S. Section to ICCAT will meet in a closed session to discuss sensitive information relating to upcoming international negotiations, specifically bigeye and albacore tuna management. The Advisory Committee will also address fleet capacity management and monitoring, control and surveillance issues.

Special Accommodations

The meeting locations are physically accessible to people with disabilities. Requests for sign language interpretation or other auxiliary aids should be directed to Kelly Denit at (301) 713-2276 by at least 5 days prior to the meeting date.

Dated: August 8, 2007.
Rebecca Lent,
Director, Office of International Affairs, National Marine Fisheries Service.

[FR Doc. E7-15920 Filed 8-13-07; 8:45 am]

BILLING CODE 3510-22-S